DEPARTMENT OF ENERGY

Federal Energy Regulatory Commission

[Project No. 7189-015]

Green Lake Water Power Company; Notice of Revised Procedural Schedule for Environmental Assessment for the Proposed Project Relicense

On March 31, 2022, Green Lake Water Power Company filed an application for a subsequent license to continue to operate and maintain the 424-kilowatt Green Lake Hydroelectric Project No. 7189 (Green Lake Project). On May 31, 2023, Commission staff issued a notice of intent to prepare an environmental assessment (EA) to evaluate the effects of relicensing the Green Lake Project. The notice included an anticipated schedule for issuing the EA. By notice issued April 11, 2024, the schedule for completing the EA was revised. The revised due date for the EA was to be May 2024.

On May 28, 2024, the Maine Department of Environmental Protection filed its Clean Water Act section 401 water quality certification (certification) for the Green Lake Project with the Commission. In order for staff to fully consider the certification, the procedural schedule for completing the EA is being revised as follows. Further revisions to the schedule may be made as appropriate.

Milestone | Target date
Issue EA | September 2024.

Any questions regarding this notice may be directed to Amanda Gill at (202) 502-6773, or by email at amanda.gill@ferc.gov.

Dated: June 4, 2024.
Debbie-Anne A. Reese,
Acting Secretary.

[FR Doc. 2024-12676 Filed 6-10-24; 8:45 am]

BILLING CODE 6717-01-P